EXPORT-IMPORT BANK

Sunshine Act Meetings

Notice of an Open Meeting of the Board of Directors of the Export-Import Bank of the United States

TIME AND DATE: Thursday, April 28, 2022, at 10:15 a.m.

PLACE: The meeting will be held via teleconference.

STATUS: The meeting will be open to public observation for Item Number 1.

MATTERS TO BE CONSIDERED: Extension and Termination of COVID-19 Relief Measures.

CONTACT PERSON FOR MORE INFORMATION: Joyce B. Stone (202-257-4086). Members of the public who wish to attend the meeting via teleconference must register via using the link below by noon Wednesday April 27, 2022. After completing the registration, Individuals will receive a confirmation email containing information about joining the webinar. https://teams.microsoft.com/registration/PAFTuZHHMk2Zb1GDkIVFJw,pHLqbjVTrkuy_9KepKN6dQ,MFtnLzltSEGI6EQECdI5iQ,MT1AT3hlIkOnOgl65cOcwg,KoZ0L6eBREKJFAYRixuxVw,suD8J2fVd06L4Yt3PC3QiA?mode=read&tenantId=b953013c-c791-4d32-996f-518390854527.

Bassam Doughman,
IT Specialist.

[FR Doc. 2022-08747 Filed 4-20-22; 4:15 pm]

BILLING CODE 6690-01-P